DEPARTMENT OF COMMERCE

Foreign-Trade Zones Board

[B-20-2015]

Authorization of Production Activity, Foreign-Trade Zone 50, Mercedes Benz USA, LLC (Accessorizing Passenger Motor Vehicles), Long Beach, California

On March 24, 2015, the Port of Long Beach, grantee of FTZ 50, submitted a notification of proposed production activity to the Foreign-Trade Zones (FTZ) Board on behalf of Mercedes Benz USA, LLC, within FTZ 50, in Long Beach, California.

The notification was processed in accordance with the regulations of the FTZ Board (15 CFR part 400), including notice in the Federal Register inviting public comment (80 FR 19958, 4-14-2015). The FTZ Board has determined that no further review of the activity is warranted at this time. The production activity described in the notification is authorized, subject to the FTZ Act and the FTZ Board's regulations, including Section 400.14.

Dated: July 24, 2015.
Andrew McGilvray,
Executive Secretary.

[FR Doc. 2015-18728 Filed 7-29-15; 8:45 am]

BILLING CODE 3510-DS-P